DEPARTMENT OF TRANSPORTATION

Federal Railroad Administration

[Docket No. FRA-2023-0002-N-42]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Requests (ICRs) summarized below to the Office of Management and Budget (OMB) for review and comment. These ICRs describe the information collection and their expected burden. On October 2, 2023, FRA published a notice providing a 60-day period for public comment on the two ICRs. FRA received no comments related to the proposed collections of information.

DATES: Interested persons are invited to submit comments on or before March 22, 2024.

ADDRESSES: Written comments and recommendations for the proposed ICRs should be sent within 30 days of publication of this notice to www.reginfo.gov/public/do/PRAMain. Find the particular ICR by selecting “Currently under Review—Open for Public Comments” or by using the search function.

FOR FURTHER INFORMATION CONTACT: Ms. Joanne Swafford, Information Collection Clearance Officer, at email: joanne.swafford@dot.gov or telephone: (757) 897-9908 or Ms. Arlette Mussington, Information Collection Clearance Officer, at email: arlette.mussington@dot.gov or telephone: (571) 609-1285.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On October 2, 2023, FRA published a 60-day notice in the Federal Register soliciting public comments on the ICRs for which it is now seeking OMB approval. See 88 FR 67866. FRA received no comments related to the proposed collections of information.

Before OMB decides whether to approve the proposed collections of information, it must provide 30 days for public comment. Federal law requires OMB to approve or disapprove paperwork packages between 30 and 60 days after the 30-day notice is published. 44 U.S.C. 3507(b)-(c); 5 CFR 1320.12(d); see also 60 FR 44978, 44983 Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICRs regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summaries below describe the ICRs that FRA will submit for OMB clearance as the PRA requires:

Title: Identification of Railroad Cars.

OMB Control Number: 2130-0506.

Abstract: This collection of information is associated with 49 CFR 232.3(d), formerly contained in Interstate Commerce Commission (ICC) Order 13528. Paragraph (d)(3) of 49 CFR 232.3 conditionally excepts certain export, industrial, and other cars not owned by a railroad from part 232 compliance. It requires cars to be identified by a card attached to each side of the equipment, signed by the shipper, specifically noting that the car is being moved under the proper authority. Railroads typically use carrier bad order forms or tags for these purposes. These forms are readily available from all carrier repair facilities. FRA estimates approximately 400 cars per year, each bearing two forms or tags, are moved under this regulation.

Type of Request: Extension without change of a currently approved collection.

Affected Public: Businesses.

Form(s): N/A.

Respondent Universe: 765 railroads and freight car owners.

Frequency of Submission: On occasion.

Total Estimated Annual Responses: 800.

Total Estimated Annual Burden: 67 hours.

Total Estimated Annual Burden Hour Dollar Cost Equivalent: $4,496.

Title: U.S. Locational Requirement for Dispatching U.S. Rail Operations.

OMB Control Number: 2130-0556.

Abstract: Title 49 CFR part 241 requires, in the absence of a waiver, that all dispatching of United States railroad operations be performed in the United States. A railroad may, however, dispatch from a country other than the United States in an emergency situation, but only for the duration of the emergency situation.¹ A railroad relying on this exception must provide written notification of its action to FRA as soon as practicable; such notification is not required before addressing the emergency situation. The information collected under this ICR is used as part of FRA's oversight function to help ensure that extraterritorial dispatchers comply with applicable safety regulations.

¹ See 49 CFR 241.9(c).

Type of Request: Extension without change (with changes in estimate) ² of a currently approved collection.

² FRA published a 60-day notice in the Federal Register on October 2, 2023, that reflected a total burden of 8 hours for § 241.9(c). After further review, FRA is making an adjustment in this 30-day notice, reducing the total burden hours from 8 to 2 hours. The adjustment is due to the increased use of electronic delivery systems. All other reporting information remains the same.

Affected Public: Businesses.

Form(s): N/A.

Respondent Universe: 4 railroads.

Frequency of Submission: On occasion.

Total Estimated Annual Responses: 1.

Total Estimated Annual Burden: 2 hours.

Total Estimated Annual Burden Hour Dollar Cost Equivalent: $171.86.

FRA informs all interested parties that it may not conduct or sponsor, and a respondent is not required to respond to, a collection of information that does not display a currently valid OMB control number.

Authority: 44 U.S.C. 3501-3520.

Christopher S. Van Nostrand,
Acting Deputy Chief Counsel.

[FR Doc. 2024-03477 Filed 2-20-24; 8:45 am]

BILLING CODE 4910-06-P